ENVIRONMENTAL PROTECTION AGENCY

[FRL-6567-9]

Science Advisory Board; Notification of Public Advisory Committee Meeting

Pursuant to the Federal Advisory Committee Act, Public Law 92-463, notice is hereby given that the Clean Air Scientific Advisory Committee (CASAC) Technical Subcommittee for Fine Particle Monitoring will meet on Tuesday and Wednesday, April 18-19, 2000 at the Governor's Inn, Route 54 and Davis Drive, Research Triangle Park, NC. The meeting will begin at 7:30 am and end no later than 5:00 pm on April 18th and begin at 9:00 am and end no later than 1:00 pm on April 19th. All times noted are Eastern Daylight Savings Time. The meeting is open to the public, however, due to limited space, seating will be on a first-come basis. For further information concerning specific meetings, please contact the individuals listed below. Important Notice: Documents that are the subject of CASAC reviews are normally available from the originating EPA office and are not available from the CASAC Office—information concerning availability of documents from the relevant Program Office is included below.

Purpose of the Meeting—This technical subcommittee of CASAC was established in 1996 to provide advice and comment to EPA (through CASAC) on appropriate methods and network strategies for monitoring fine particles in the context of implementing the revised national ambient air quality standards (NAAQS) for particulate matter. The Subcommittee provided such advice on the Federal Reference Method and mass based fine particle network in July 1996 and is now meeting to examine EPA's plans and guidance for several components of the fine particle monitoring network and how these components are linked to research priorities for particulate matter.

At the meeting, staff from the Office of Air Quality Planning and Standards (OAQPS) and the Office of Research and Development (ORD) will provide briefings regarding status for the fine particle monitoring program with an emphasis on the chemical speciation and “Supersites” study programs. These briefings will include a review of the assessment of initial performance of chemical speciation samplers and progress reports on the chemical speciation and supersites networks. In addition, EPA will provide preliminary plans for developing coarse particle monitoring methods. The Agency staff and Subcommittee members will discuss the specific issues for the Charge to the Subcommittee during the meeting.

Availability of Review Materials: Hard copies of any background materials will be available from Ms. Brenda Millar, Office of Air Quality Planning and Standards (MD-14), U.S. EPA, Research Triangle Park, NC 27711. Ms. Millar can also be reached by telephone at (919) 541-4036 or by fax at (919) 541-1903. Electronic versions of the materials will be available on the Agency's TTN Bulletin Board, at http://www.epa.gov/ttn/amtic.

FOR FURTHER INFORMATION CONTACT: Members of the public desiring additional information about the meeting should contact Mr. Robert Flaak, Designated Federal Officer, Clean Air Scientific Advisory Committee, Science Advisory Board (1400A), Suite 6450, U.S. EPA, 1200 Pennsylvania Avenue, NW, Washington, DC 20460; telephone/voice mail at (202) 564-4546; fax at (202) 501-0582; or via e-mail at <flaak.robert@epa.gov>. A copy of the draft agenda is available from Ms. Diana Pozun at (202) 564-4544 or by FAX at (202) 501-0582 or via e-mail at <pozun.diana@epa.gov>.

Members of the public who wish to make a brief oral presentation to the Subcommittee must contact Mr. Flaak in writing (by letter or by fax—see previously stated information) no later than 12 noon Eastern Daylight Savings Time, Tuesday, April 11, 2000 in order to be included on the Agenda. Public comments will be limited to ten minutes per speaker or organization. The request should identify the name of the individual making the presentation, the organization (if any) they will represent, any requirements for audio visual equipment (e.g., overhead projector, 35mm projector, chalkboard, etc), and at least 35 copies of an outline of the issues to be addressed or of the presentation itself.

Providing Oral or Written Comments at SAB Meetings

The Science Advisory Board expects that public statements presented at its meetings will not be repetitive of previously submitted oral or written statements. In general, each individual or group making an oral presentation will be limited to a total time of ten minutes. For conference call meetings, opportunities for oral comment will be limited to no more than five minutes per speaker and no more than fifteen minutes total. Written comments (at least 35 copies) received in the SAB Staff Office sufficiently prior to a meeting date, may be mailed to the relevant SAB committee or subcommittee prior to its meeting; comments received too close to the meeting date will normally be provided to the committee at its meeting. Written comments may be provided to the relevant committee or subcommittee up until the time of the meeting.

Additional information concerning the Science Advisory Board, its structure, function, and composition, may be found on the SAB Website (http://www.epa.gov/sab) and in The Annual Report of the Staff Director which is available from the SAB Publications Staff at (202) 564-4533 or via fax at (202) 501-0256.

Individuals requiring special accommodation at this meeting, including wheelchair access, should contact Mr. Flaak at least five business days prior to the meeting so that appropriate arrangements can be made.

Dated: March 22, 2000.
Donald G. Barnes,
Staff Director, Science Advisory Board.

[FR Doc. 00-7882 Filed 3-29-00; 8:45 am]

BILLING CODE 6560-50-P